ENVIRONMENTAL PROTECTION AGENCY

[ER-FRL-6663-8]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at 202-564-7167.

An explanation of the ratings assigned to draft environmental impact statements (EISs) was published in the Federal Register dated April 1, 2005 (70 FR 16815).

Draft EISs

EIS No. 20050052, ERP No. D-FHW-F40429-WI, US-131 Improvement Study, from the Indiana Toll Road (1-80/90) to a Point One Mile North of Cowling Road, U.S. Army COE Section 404 Permit, St. Joseph County, MI and Elkhart County, IN.

Summary: EPA has environmental objections to two alternatives under consideration (Alternatives PA-3 and PA-4) because of direct and indirect impacts to high quality wetlands, impacts to trout habitat in the St. Joseph River, wildlife corridor impacts for the White Pigeon, St. Joseph, and Rocky Rivers, and migratory bird impacts.

Rating EO2.

EIS No. 20050095, ERP No. D-FTA-K54030-CA, Warm Springs Extension, Proposing 5.4 mile Extension of the BART System in the City of Fremont, Funding, San Francisco Bay Area Rapid Transit District, Alameda County, CA.

Summary: While EPA has no objection to the proposed action, but requested clarification on mitigation for noise and aquatic resource impacts.

Rating LO.

EIS No. 20050099, ERP No. D-AFS-L65478-OR, Big Butte Springs Timber Sales, To Implementation Management Direction, Roque River-Siskiyou National Forest, Butte Falls Ranger District, Cascade Zone, Jackson County, OR.

Summary: EPA has environmental concerns about potential adverse impacts to water quality and natural resources.

Rating EC1.

EIS No. 20050119, ERP No. D-AFS-L65479-OR, Timberline Express Project, To Improve the Winter Recreational Opportunities, Implementation, Zigzag Ranger District, Mt. Hood National Forest, Clackamas County, OR.

Summary: EPA has environmental concerns about water resources, habitat fragmentation, and whether infrastructure constraints will accommodate the proposed ski expansion.

Rating EC1.

Final EISs

EIS No. 20050098, ERP No. F-FAA-D51050-PA, Philadelphia International Airport, Runway 17-35 Extension Project, Construction and Operation, US Army COE Section 404 Permit, NPDES Permit, Delaware and Philadelphia Counties, PA.

Summary: EPA's previous issues have been resolved, therefore, EPA has no objection to that action as proposed.

EIS No. 20050150, ERP No. F-NAS-A12042-00, PROGRAMMATIC—Mars Exploration Program (MEP) Implementation.

Summary: No formal comment letter was sent to the preparing agency.

EIS No. 20050159, ERP No. F-NIH-D81035-MD, National Institutes of Health (NIH) Master Plan 2003 Update, National Institutes of Health Main Campus—Bethesda, MD, Montgomery County, MD.

Summary: The FEIS adequately addressed EPA's comments.

Dated: May 24, 2005.
Robert W. Hargrove,
Director, NEPA Compliance Division, Office of Federal Activities.

[FR Doc. 05-10675 Filed 5-26-05; 8:45 am]

BILLING CODE 6560-50-P